FEDERAL COMMUNICATIONS COMMISSION

47 CFR Part 73

[DA 00-1560; MM Docket No. 00-5; RM-9752]

Radio Broadcasting Services; Las Vegas and Pecos, NM

AGENCY: Federal Communications Commission.

ACTION: Final rule.

SUMMARY: The Commission, at the request of BK Radio, substitutes Channel 268C3 for Channel 268A at Las Vegas, NM, reallots Channel 268C3 from Las Vegas to Pecos, NM, as the community's first local aural service, and modifies its construction permit (BPH-19960829MH) accordingly. See 65 FR 4798, February 1, 2000. Channel 286C3 can be allotted to Pecos in compliance with the Commission's minimum distance separation requirements with a site restriction of 9.1 kilometers (5.7 miles) east, at coordinates 35-32-54 NL; 105-35-18 WL. This action also editorially amends the Table of FM Allotments to reflect the substitution of Channel 275C2 for Channel 275A at Las Vegas, NM, pursuant to Station KTRL's one-step upgrade application (BMPH-19991220ACQ) granted on March 30, 2000.

DATES: Effective August 28, 2000.

ADDRESSES: Federal Communications Commission, Washington, DC 20554.

FOR FURTHER INFORMATION CONTACT: Leslie K. Shapiro, Mass Media Bureau, (202) 418-2180.

SUPPLEMENTARY INFORMATION: This is a synopsis of the Commission's Report and Order, MM Docket No. 00-5, adopted July 5, 2000, and released July 14, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of title 47 of the Code of Federal Regulations is amended as follows:

PART 73—[AMENDED]

1. The authority citation for part 73 continues to read as follows:

Authority: 47 U.S.C. 154, 303, 334. 336.

§ 73.202 [Amended]

2. Section 73.202(b), the Table of FM Allotments under New Mexico, is amended by removing Channels 268A and 275A and adding Channel 275C2 at Las Vegas and by adding Pecos, Channel 268C3.

Federal Communications Commission.
John A. Karousos,
Chief, Allocations Branch, Policy and Rules Division, Mass Media Bureau.

[FR Doc. 00-18764 Filed 7-24-00; 8:45 am]

BILLING CODE 6712-01-P